DEPARTMENT OF EDUCATION

National Institute on Disability and Rehabilitation Research; Request for Written Comments

AGENCY: Office of Special Education and Rehabilitative Services, Department of Education.

ACTION: Request for written comments.

SUMMARY: The Assistant Secretary invites written comments suggesting priorities for research centers and projects administered by the National Institute on Disability and Rehabilitation Research (NIDRR) under title II of the Rehabilitation Act of 1973, as amended (the Act). We encourage individuals to suggest research priorities that are consistent with NIDRR's Long-Range Plan (the Plan) and that support the New Freedom Initiative (NFI).

DATES: We would like to receive your written comments suggesting priorities on or before July 16, 2002.

ADDRESSES: Address all comments to Joel Myklebust, U.S. Department of Education, 400 Maryland Avenue, SW., room 3422, Switzer Building, Washington, DC 20202-2645. Fax: (202) 205-8515. If you prefer to send your comments through the Internet, use the following address: Joel.Myklebust@ed.gov

During and after the comment period, you may inspect all public comments about these priorities in room 3422, Switzer Building, 330 C Street, SW., Washington, DC, between the hours of 8:30 a.m. and 4:00 p.m., Eastern time, Monday through Friday of each week except Federal holidays.

Assistance to Individuals With Disabilities in Reviewing the Comments

On request, we will supply an appropriate aid, such as a reader or print magnifier, to an individual with a disability who needs assistance to review the comments. If you want to schedule an appointment for this type of aid, please contact the person listed under FOR FURTHER INFORMATION CONTACT.

FOR FURTHER INFORMATION CONTACT: Joel Myklebust. Telephone: (202) 205-8831.

If you use a telecommunications device for the deaf (TDD), you may call the TDD number at (202) 205-4475 or via the Internet: Joel.Myklebust@ed.gov

Individuals with disabilities may obtain this document in an alternative format (e.g., Braille, large print, audiotape, or computer diskette) on request to the contact person listed under FOR FURTHER INFORMATION CONTACT.

SUPPLEMENTARY INFORMATION:

The Plan

NIDRR is interested in suggestions for research priorities that are consistent with the research areas, needs, and target populations addressed in the Plan.

The Plan aims to maximize independence and participation in society by individuals with disabilities. The Plan addresses priorities in five major research areas: (1) Employment outcomes; (2) health and function; (3) technology for access and function; (4) independent living and community integration; and (5) associated disability research areas, including but not limited to, knowledge dissemination and utilization, and capacity building for rehabilitation research.

The Plan addresses a range of diverse needs and target populations, including the following:

• The needs of individuals with disabilities for knowledge and information that will enable them to achieve their aspirations for self-direction, independence, inclusion, and functional competence.

• The needs of rehabilitation service providers for information on new techniques and technologies that will enable them to assist in the rehabilitation of individuals with disabilities.

• The needs of researchers to advance the capabilities of science as well as the body of scientific knowledge.

• The needs of society, and its leadership, for strategies that will enable it to facilitate the potential contributions of all citizens.

• The need to transfer findings from basic to applied research.

The NFI

NIDRR is interested in suggestions for research priorities that will contribute to one or more of the following objectives that support the NFI.

The NFI addresses increasing access to assistive technologies, expanding educational opportunities, increasing the ability of individuals with disabilities to integrate into the workforce, and promoting increased access into daily community life.

Objectives that support the NFI are the following:

• Increasing access to assistive and universally designed technologies.

• Expanding educational opportunities for individuals with disabilities.

• Integrating individuals with disabilities into the workforce.

• Expanding telecommuting.

• Promoting innovative transportation solutions.

• Promoting full access to community life.

• Promoting homeownership for individuals with disabilities.

• Promoting the successful implementation of the Olmstead Decision.

• Improving America's mental health service delivery system.

• Increasing the availability and delivery of new treatments and technologies for individuals with severe mental illness.

• Improving the accessibility of organizations that are currently exempt from Title III of the ADA, such as churches, mosques, synagogues, and civic organizations.

• Improving access to polling places and ballot secrecy for individuals with disabilities.

Availability of Copies of The Plan and NFI

The Plan can be accessed on the Internet at the following site: http://www.ed.gov/offices/OSERS/NIDRR/Products

The NFI can be accessed on the Internet at the following site: http://www.whitehouse.gov/news/freedominitiative/freedominiative.html

Individuals who are unable to access the Internet may obtain copies of the Plan and the NFI by contacting the person listed under FOR FURTHER INFORMATION CONTACT. Individuals with disabilities may obtain a copy of the Plan or the NFI in an alternative format (e.g., Braille, large print, audiotape, or computer diskette) on request to the person listed under FOR FURTHER INFORMATION CONTACT.

Recommended Format for Comments

We recommend that your written comments be no longer than two single-spaced pages. We recommend that your comments include the following information:

(1) A brief background statement that identifies the target population, describes the problem or issue that would be addressed, and summarizes the current state of the research.

(2) A description of the research project or projects that would address the identified problem or issue.

(3) An estimate of the amount of the annual award and the number of years (5 years or less) that a grantee would need to carry out the suggested research.

Applicable Program Regulations: 34 CFR part 350.

Electronic Access to This Document

You may review this document, as well as all other Department of Education documents published in the Federal Register in text or Adobe Portable Document Format (PDF) on the Internet at the following site: www.ed.gov/legislation/FedRegister

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO access at: http://www.access.gpo.gov/nara/index.html

(Catalog of Federal Domestic Assistance Number 84.133A, Disability Rehabilitation Research Project)

Program Authority: 29 U.S.C. 701, et seq.

Dated: May 10, 2002.
Loretta L. Petty,
Acting Assistant Secretary for Special Education and Rabilitative Services.

[FR Doc. 02-12602 Filed 5-16-02; 8:45 am]

BILLING CODE 4000-01-U